DEPARTMENT OF LABOR

Employment and Training Administration

Investigations Regarding Certifications of Eligibility to Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 27, 2007.

Interested persons are invited to submit written comments regarding the subject matter of the investigations to the Director, Division of Trade Adjustment Assistance, at the address shown below, not later than July 27, 2007.

The petitions filed in this case are available for inspection at the Office of the Director, Division of Trade Adjustment Assistance, Employment and Training Administration, U.S. Department of Labor, Room C-5311, 200 Constitution Avenue, NW., Washington, DC 20210.

Signed at Washington, DC, this 10th day of July 2007.
Linda G. Poole,
Certifying Officer, Division of Trade Adjustment Assistance.

Appendix
[TAA petitions instituted between 7/2/07 and 7/6/07]
TA-W | Subject Firm (Petitioners) | Location | Date of institution | Date of petition
61769 | Hot Sox Warehouse (Comp) | Secaucus, NJ | 07/02/07 | 06/28/07
61770 | JDSU/Los Coches Assembly and Test (Comp) | Milpitas, CA | 07/02/07 | 06/29/07
61771 | Keeco LLC (State) | San Francisco, CA | 07/02/07 | 06/29/07
61772 | Emerson Network Power—Embedded Computing (Comp) | Madison, WI | 07/02/07 | 06/29/07
61773 | Robert Bosch Tool Corporation/Gilmour (Comp) | Somerset, PA | 07/02/07 | 06/29/07
61774 | NxStage Medical Inc. (State) | Lawrence, MA | 07/02/07 | 06/29/07
61775 | Tandy Brands Accessories (Comp) | Yoakum, TX | 07/02/07 | 06/28/07
61776 | Nordsom Corporation—Lincoln Alabama Facility (Comp) | Lincoln, AL | 07/03/07 | 07/02/07
61777 | Intersil Corporation (Wkrs) | Palm Bay, FL | 07/03/07 | 07/02/07
61778 | Coolbrands International/Integrated Brands (Wkrs) | Ronkonkoma, NY | 07/03/07 | 06/27/07
61779 | Siemens Power Transmission and Distribution (Comp) | Wendell, NC | 07/03/07 | 06/29/07
61780 | Harman Becker Automotive Systems, Inc. (Comp) | Martinsville, IN | 07/05/07 | 06/28/07
61781 | ThyssenKrupp Forging (Wkrs) | Danville, IL | 07/05/07 | 06/22/07
61782 | Dent Manufacturing Inc. (Comp) | Northhampton, PA | 07/05/07 | 06/19/07
61783 | H. Koch and Sons Co. (Wkrs) | Anaheim, CA | 07/05/07 | 06/25/07
61784 | SPSS, Inc. (Wkrs) | Oconomowoc, WI | 07/05/07 | 07/03/07
61785 | Risdon International, Inc. (State) | Middletown, CT | 07/05/07 | 07/03/07
61786 | SPM Corporation (Wkrs) | Woburn, MA | 07/05/07 | 07/02/07
61787 | National City Mortgage Corp. (Wkrs) | Miamisburg, OH | 07/05/07 | 06/10/07
61788 | TI Automotive Systems (Comp) | Chesterfield, MI | 07/05/07 | 07/02/07
61789 | Fraser Papers Limited (Comp) | Madawaska, ME | 07/05/07 | 06/26/07
61790 | State Farm Insurance (Wkrs) | Newark, OH | 07/05/07 | 07/03/07
61791 | Mahle Industries, Inc. (Comp) | Franklin, KY | 07/05/07 | 07/03/07
61792 | Precision Resource (Comp) | Shelton, CT | 07/05/07 | 07/03/07
61793 | Phillips Brothers, Inc. (Comp) | Springfield, IN | 07/05/07 | 07/05/07
61794 | Rockland Industries (Comp) | Baltimore, MD | 07/06/07 | 07/02/07
61795 | Convergys Information Managment Group (Wkrs) | Wilkes-Barre, PA | 07/06/07 | 06/30/07
61796 | Greatbatch Hittman, Inc. (Comp) | Columbia, MD | 07/06/07 | 07/06/07

[FR Doc. E7-13778 Filed 7-16-07; 8:45 am]

BILLING CODE 4510-FN-P